DEPARTMENT OF JUSTICE

Drug Enforcement Administration

Asim A. Hameedi, M.D.; Stay of Decision and Transmittal Order

On April 4, 2023, the Agency issued a Decision and Order revoking, effective May 11, 2023, Certificate of Registration No. BH6407919 issued to Asim A. Hameedi, M.D.¹ Asim A. Hameedi, M.D., 88 FR 21,715 (April 11, 2023). By letter dated May 1, 2023 (letter), addressed to the Drug Enforcement Administration Administrator, Dr. Hameedi requested that the April 4, 2023 Order be vacated ² because, among other reasons, he was never served with the underlying Order to Show Cause. Letter, at 1. Given the content of the letter and its attachments, I hereby stay the revocation of Certificate of Registration No. BH6407919 issued to Asim A. Hameedi, M.D., pending further proceedings. Asim A. Hameedi, M.D., 88 FR 21,715 (April 11, 2023).

¹ The Order also denied any pending application to renew or modify this registration and denied any other pending application by Dr. Hameedi for registration in New York.

² Dr. Hameedi also seeks to “excuse his default” citing to 21 CFR 1301.43(c)(1) and (f)(3). Letter, at 1. The default procedures Dr. Hameedi references did not become effective until December 14, 2022, and do not apply to his Order to Show Cause. 87 FR 73,246 (Nov. 29, 2022).

This matter is transmitted to the Office of Administrative Law Judges to conduct any and all appropriate proceedings (for example, to determine the sufficiency of notice and/or whether good cause exists to justify any delay).

It is so ordered.

Signing Authority

This document of the Drug Enforcement Administration was signed on May 9, 2023, by Administrator Anne Milgram. That document with the original signature and date is maintained by DEA. For administrative purposes only, and in compliance with requirements of the Office of the Federal Register, the undersigned DEA Federal Register Liaison Officer has been authorized to sign and submit the document in electronic format for publication, as an official document of DEA. This administrative process in no way alters the legal effect of this document upon publication in the Federal Register.

Heather Achbach,
Federal Register Liaison Officer, Drug Enforcement Administration.

[FR Doc. 2023-10212 Filed 5-11-23; 8:45 am]

BILLING CODE 4410-09-P